DEPARTMENT OF JUSTICE

Notice of Lodging of Proposed Amended Consent Decree Under the Clean Air Act

On September 14, 2017, the Department of Justice lodged a proposed Amended Consent Decree under the Clean Air Act, 42 U.S.C. 7601 et seq., with the United States District Court for the Southern District of Ohio in the matter entitled Barbara Fisher and United States of America v. Perma-Fix of Dayton, Inc., Civil Action No. 3:04-cv-00418.

The proposed Amended Consent Decree between Plaintiff United States, on behalf of the U.S. Environmental Protection Agency (“U.S. EPA”) and 1) initial Settling Defendant Perma-Fix of Dayton, Inc. (“Perma-Fix”) and 2) current Settling Defendant Clean Water Limited (“CWL”), amends the original Consent Decree entered into by the United States and Perma-Fix and signed by the Court on February 12, 2008. CWL enters into the proposed Amended Decree by and through the Receiver of the facility appointed by the Franklin County Court of Common Pleas. The State of Ohio, on behalf of the Ohio Environmental Protection Agency (“Ohio EPA”), also enters into the proposed Amended Decree by virtue of its proposed joinder as a party. The proposed Amended Decree would resolve alleged violations of the original Consent Decree and notices of violation sent to CWL by the U.S. EPA and Ohio EPA. The proposed Amended Consent Decree would terminate the original Consent Decree and be substituted for that Decree.

The publication of this notice opens a period for public comment on the proposed Amended Decree. Comments should be addressed to the Acting Assistant Attorney General, Environment and Natural Resources Division, and should refer to Barbara Fisher and United States of America v. Perma-Fix of Dayton, Inc., D.J. Ref. No. 90-5-2-1-08318. All comments must be submitted no later than thirty (30) days after the publication date of this notice. Comments may be submitted either by email or by mail:

To submit comments: | Send them to:
By email | pubcomment-ees.enrd@usdoj.gov.
By mail | Acting Assistant Attorney General, U.S. DOJ—ENRD, P.O. Box 7611, Washington, DC 20044-7611.

During the public comment period, the proposed Amended Consent Decree may be examined and downloaded at this Justice Department Web site: http://www.justice.gov/enrd/consent-decrees.

We will provide a paper copy of the proposed Amended Consent Decree upon written request and payment of reproduction costs. Please mail your request and payment to: Consent Decree Library, U.S. DOJ—ENRD, P.O. Box 7611, Washington, DC 20044-7611.

Please enclose a check or money order for $47.50 (at 25 cents per page reproduction cost), or $10.50 (without exhibits), payable to the United States Treasury.

Randall M. Stone,
Acting Assistant Section Chief, Environmental Enforcement Section, Environment and Natural Resources Division.

[FR Doc. 2017-20183 Filed 9-21-17; 8:45 am]

BILLING CODE 4410-CW-P